DEPARTMENT OF ENERGY

10 CFR Part 430

[Docket No. EERE-2008-BT-STD-0006]

RIN 1904-AB47

Energy Efficiency Program for Consumer Products: Public Meeting and Availability of the Framework Document for Residential Central Air Conditioners and Heat Pumps

AGENCY: Office of Energy Efficiency and Renewable Energy, Department of Energy.

ACTION: Notice of public meeting and availability of the Framework Document.

SUMMARY: The Department of Energy (DOE) is initiating the rulemaking and data collection process to consider establishing amended energy conservation standards for residential central air conditioners and heat pumps. Accordingly, DOE will hold an informal public meeting to discuss and receive comments on its planned analytical approach and issues it will address in this rulemaking proceeding. DOE welcomes written comments from the public on this rulemaking. To inform stakeholders and to facilitate this process, DOE has prepared a Framework Document which details the analytical approach and identifies several issues on which DOE is particularly interested in receiving comment. A copy of the Framework Document is available at: http://www.eere.energy.gov/buildings/appliance_standards/residential/central_ac_hp.html.

DATES: The Department will hold a public meeting on June 12, 2008, from 9 a.m. to 4 p.m. in Washington, DC. Any person requesting to speak at the public meeting should submit such request along with a signed original and an electronic copy of the statement to be given at the public meeting before 4 p.m., June 11, 2008. Written comments on the Framework Document are welcome, especially following the public meeting, and should be submitted by July 7, 2008.

ADDRESSES: The public meeting will be held at the U.S. Department of Energy, Forrestal Building, Room 1E-245, 1000 Independence Avenue, SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed.

Stakeholders may submit comments, identified by docket number EERE-2008-BT-STD-0006 and/or Regulation Identifier Number (RIN) 1904-AB47, by any of the following methods:

• Federal eRulemaking Portal: http://www.regulations.gov. Follow the instructions for submitting comments.

• E-mail: Brenda.Edwards@ee.doe.gov. Include EERE-2008-BT-STD-0006 and/or RIN 1904-AB47 in the subject line of the message.

• Mail: Ms. Brenda Edwards, U.S. Department of Energy, Building Technologies Program, Mailstop EE-2J, Framework Document for Central Air Conditioners and Heat Pumps, EERE-2008-BT-STD-0006 and/or RIN 1904-AB47, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Instructions: All submissions received must include the agency name and docket number or RIN for this rulemaking found at the beginning of this notice.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Mr. Wes Anderson, U.S. Department of Energy, Office of Energy Efficiency and Renewable Energy, Building Technologies, EE-2J, 1000 Independence Avenue, SW., Washington, DC 20585-0121. Telephone: (202) 586-7335. E-mail: Wes.Anderson@ee.doe.gov.

Mr. Eric Stas or Mr. Michael Kido, U.S. Department of Energy, Office of the General Counsel, GC-72, 1000 Independence Avenue, SW., Washington, DC 20585-0121. Telephone: (202) 586-9507. E-mail: Eric.Stas@hq.doe.gov or Michael.Kido@hq.doe.gov.

For information on how to submit or review public comments and on how to participate in the public meeting, contact Ms. Brenda Edwards, U.S. Department of Energy, Office of Energy Efficiency and Renewable Energy, Building Technologies Program, EE-2J, 1000 Independence Avenue, SW., Washington, DC, 20585-0121. Telephone (202) 586-2945. E-mail: Brenda.Edwards@ee.doe.gov.

SUPPLEMENTARY INFORMATION: Part A ¹ of Title III of the Energy Policy and Conservation Act of 1975 (EPCA), Public Law 94-163, as amended by the National Energy Conservation Policy Act, Public Law 95-619, the National Appliance Energy Conservation Act of 1987, Public Law 100-12, the National Appliance Energy Conservation Amendments of 1988, Public Law 100-357, and the Energy Policy Act of 1992, Public Law 102-486, created the “Energy Conservation Program for Consumer Products Other than Automobiles.” (42 U.S.C. 6291-6309) The consumer products subject to this program include residential central air conditioners and central air conditioning heat pumps (hereafter referred to as central air conditioners and heat pumps).

¹ This part was originally titled Part B; however, it was redesignated Part A after Part B was repealed by Pub. L. 109-58.

The National Appliance Energy Conservation Act of 1987 (NAECA) established energy conservation standards for central air conditioners and heat pumps as well as requirements for determining whether these standards should be amended. Specifically, NAECA established energy conservation standards for central air conditioners and heat pumps in the form of minimum limits on the seasonal energy efficiency ratio (SEER) for air conditioners and for heat pumps operating in the cooling mode, and on the heating seasonal performance factor (HSPF) for heat pumps operating in the heating mode.² NAECA established the following standards for central air conditioners and heat pumps: 10.0 SEER/6.8 HSPF for split systems and 9.7 SEER/6.6 HSPF for single-package systems. These standards became effective January 1, 1992 for split systems; standards for single-package systems came into effect one year later. See 42 U.S.C. 6295(d)(1)(A)-(B) and (2)(A)-(B). NAECA also required that DOE conduct two cycles of rulemakings to determine if more stringent standards are economically justified and technologically feasible. (42 U.S.C. 6295(d)(3)(A)-(B))

² NAECA established the following standards for central air conditioners and heat pumps: 10.0 SEER/6.8 HSPF for split systems, 9.7 SEER/6.6 HSPF for single-package systems.

Pursuant to 42 U.S.C. 6295(b)(3)(A), DOE published a final rule in the Federal Register on January 22, 2001 (2001 final rule), amending the energy conservation standards for central air conditioners and heat pumps. 66 FR 7170. The amended standards increased the minimum SEER to 13 and the minimum HSPF to 7.7, excluding through-the-wall and space-constrained systems.³ Id. This final rule constituted the first cycle of revised standards for central air conditioners and heat pumps.

³ Shortly after the publication of the 2001 final rule, DOE postponed the effective date of the rule to take time to reconsider the amended standards for central air conditioners and heat pumps. DOE eventually promulgated a 12 SEER standard in a final rule published in the Federal Register May 23, 2002 (2002 final rule; 67 FR 36368), but the U.S. Court of Appeals for the Second Circuit ruled that DOE had done so improperly. Natural Resources Defense Council v. Abraham, 355 F.3d 179 (2d Cir. 2004). As a result, DOE published a technical amendment in the Federal Register on August 17, 2004, which established a 13 SEER standard for all central air conditioners and heat pumps, excluding through-the-wall and space-constrained systems. 69 FR 50997.

EPCA was further amended by the Energy Policy Act of 2005 (EPACT), Public Law 109-58. In Section 141 of EPACT, Congress directed DOE to submit an initial report regarding a plan for expeditiously prescribing new or revised standards. Pursuant to section 141 of EPACT, DOE submitted an implementation report ⁴ to Congress in January 2006. This report included a schedule for the completion of the second rulemaking cycle of revised standards for central air conditioners and heat pumps, which called for DOE to publish a final rule by June 2011, with a standards compliance effective date of June 2016. In separate court proceedings (New York, v. Bodman, No. 05 Civ. 7807 (S.D.N.Y. filed Sept. 7, 2005) and Natural Resources Defense Council v. Bodman, No. 05 Civ. 7808 (S.D.N.Y. filed Sept. 7, 2005), the resulting consent decree (filed November 6, 2006) adopted the schedule for central air conditioners and heat pumps that DOE published in the January 2006 report to Congress (i.e., publication of a final rule by June 30, 2011). This Framework Document initiates this second rulemaking cycle for central air conditioners and heat pumps.

⁴ Energy Conservation Standards Activities, January 2006. This document can be downloaded from the DOE Web site at: http://www.eere.energy.gov/buildings/appliance_standards/2006_schedule_setting.html.

More recently, EPCA was amended by the Energy Independence and Security Act of 2007 (EISA 2007), Public Law 110-140. In section 306 of EISA 2007, Congress directed DOE to consider regional standards for central air conditioners and heat pumps (among other products), for one or two regions in addition to a base national standard. (42 U.S.C. 6295(o)(6)) EISA 2007 states that in considering regional standards, DOE may consider regions made up of contiguous States only. Further, in section 310 of EISA 2007, Congress directed DOE to consider amended test procedures and standards for standby-mode and off-mode energy consumption by covered equipment (such as central air conditioners and heat pumps) for any standard published after July 1, 2010. (42 U.S.C. 6295(gg)(3)) Because this energy conservation standards rulemaking for central air conditioners and heat pumps will be completed in 2011, the requirement to incorporate standby-mode and off-mode energy use into the energy conservation standards analysis is applicable.

To initiate the second rulemaking cycle to consider amended energy conservation standards for central air conditioners and heat pumps, DOE has prepared a Framework Document to explain the issues, analyses, and processes it anticipates using for the development of potential energy conservation standards for central air conditioners and heat pumps. As noted above, DOE will hold a public meeting on June 12, 2008 in Washington, DC, the main focus of which will be to discuss the analyses presented and issued identified in the Framework Document. At the public meeting, the Department will make a number of presentations, invite discussion on the rulemaking process as it applies to central air conditioners and heat pumps, and solicit public comments, data, and information from participants and other stakeholders.

The Department encourages those who wish to participate in the public meeting to obtain the Framework Document and to be prepared to discuss its contents. A copy of the draft Framework Document is available at: http://www.eere.energy.gov/buildings/appliance_standards/residential/central_ac_hp.html

Public meeting participants need not limit their comments to the issues identified in the Framework Document. The Department is also interested in receiving views concerning other relevant issues that participants believe would affect energy conservation standards for these products and applicable test procedures. Furthermore, the Department welcomes all interested parties, whether or not they participate in the public meeting, to submit in writing by July 7, 2008, comments and information on matters addressed in the Framework Document and on other matters relevant to consideration of standards for central air conditioners and heat pumps.

The public meeting will be conducted in an informal, facilitated, conference style. There shall be no discussion of proprietary information, costs or prices, market shares, or other commercial matters regulated by U.S. antitrust laws. A court reporter will record the proceedings of the public meeting, after which a transcript will be made available for purchase from the court reporter and available on the above-referenced Web site.

After the public meeting and the close of the comment period on the Framework Document, DOE will begin collecting data, conducting the analyses as discussed in the Framework Document and at the public meeting, and reviewing the comments received.

DOE considers public participation to be a very important part of the process for setting energy conservation standards. DOE actively encourages the participation and interaction of the public during the comment period in each stage of the rulemaking process. Beginning with the Framework Document, and during each subsequent public meeting and comment period, interactions with and between members of the public provide a balanced discussion of the issues to assist DOE with the standards rulemaking process. Accordingly, anyone who would like to participate in the public meeting, receive meeting materials, or be added to the DOE mailing list to receive future notices and information regarding this rulemaking on central air conditioners and heat pumps, should contact Ms. Brenda Edwards at (202) 586-2945, or via e-mail at: Brenda.Edwards@ee.doe.gov.

Issued in Washington, DC, on June 2, 2008.
Alexander A. Karsner,
Assistant Secretary, Energy Efficiency and Renewable Energy.

[FR Doc. E8-12753 Filed 6-5-08; 8:45 am]

BILLING CODE 6450-01-P